DEPARTMENT OF VETERANS AFFAIRS

Advisory Committee on Homeless Veterans; Notice of Meeting

The Department of Veterans Affairs (VA) gives notice under the Federal Advisory Committee Act, 38 U.S.C. App. 2 that a meeting of the Advisory Committee on Homeless Veterans will be held July 1 and 2, 2014. On July 1, the Committee will meet at the Department of Veterans Affairs, 1100 1st Street NE., Room 400, Washington, DC, from 8 a.m. to 4 p.m. On July 2, the Committee will meet at the Department of Veterans Affairs, 1100 1st Street NE., Room 400, Washington, DC, from 8 a.m. to 12 p.m. The meeting will be open to the public.

The purpose of the Committee is to provide the Secretary of Veterans Affairs with an on-going assessment of the effectiveness of the policies, organizational structures, and services of VA in assisting homeless Veterans. The Committee shall assemble and review information related to the needs of homeless Veterans and provide advice on the most appropriate means of providing assistance to that subset of the Veteran population. The Committee will make recommendations to the Secretary regarding such activities.

On July 1, the agenda will include briefings from officials from VA and other agencies regarding services for homeless Veterans. The Committee will also receive a briefing on the annual report that was developed after the last meeting of the Advisory Committee on Homeless Veterans.

On July 2, officials from VA and other agencies will provide additional briefings regarding services for homeless Veterans. The Committee will then discuss topics for its upcoming annual report and recommendations to the Secretary of Veterans Affairs.

No time will be allocated at this meeting for receiving oral presentations from the public. Interested parties should provide written comments on issues affecting homeless Veterans for review by the Committee to Ms. Lisa Pape, Designated Federal Officer, VHA Homeless Programs Office (10NC1), Department of Veterans Affairs, 810 Vermont Avenue NW., Washington, DC 20420, or email to Lisa.Pape2@va.gov.

Members of the public who wish to attend should contact Robert Figueroa of the VA Office of Public and Intergovernmental Affairs by no later than June 18, 2014, at Robert.Figueroa@va.gov or (202) 632-8589 and provide their name, professional affiliation, address, and phone number. Advanced notification and a valid photo ID are required for admission to the meeting. Attendees who require reasonable accommodation should submit their requests by June 13, 2014.

Dated: June 9, 2014.
Jelessa Burney,
Federal Advisory Committee Management Officer.

[FR Doc. 2014-13789 Filed 6-11-14; 8:45 am]

BILLING CODE 8320-01-P